ENVIRONMENTAL PROTECTION AGENCY

[FRL-9964-12-Region 2]

Proposed CERCLA Sections 104, 106, 107, and 122 Bona Fide Prospective Purchaser Settlement for Removal Action for the Alfred Heller Heat Treating Superfund Site, City of Clifton, Passaic County, New Jersey

AGENCY: Environmental Protection Agency (EPA)

ACTION: Notice; request for public comment.

SUMMARY: In accordance with Section 122(i) of the Comprehensive Environmental Response, Compensation, and Liability Act of 1980, as amended (“CERCLA”), notice is hereby given by the U.S. Environmental Protection Agency (“EPA”), Region 2, of a proposed bona fide prospective purchaser settlement agreement pursuant to Sections 104, 106, 107, and 122 of CERCLA, with 356 Getty Avenue, LLC for the Alfred Heller Heat Treating Superfund Site (“Site”), located in the City of Clifton, Passaic County, New Jersey. 356 Getty Avenue, LLC agrees to perform a CERCLA removal action at the Site and pay EPA $25,000 for EPA's future oversight costs at or in connection with the Site.

The settlement includes a covenant by EPA not to sue or to take administrative action against 356 Getty Avenue, LLC pursuant to Sections 106 and 107(a) of CERCLA, for Existing Contamination, a defined term under the settlement agreement, at the Site. For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at EPA Region 2, 290 Broadway, New York, New York 10007-1866.

DATES: Comments must be submitted on or before August 7, 2017.

ADDRESSES: The proposed settlement is available for public inspection at EPA Region 2 offices at 290 Broadway, New York, New York 10007-1866. Comments should reference the Alfred Heller Heat Treating Superfund Site, City of Clifton, Passaic County, New Jersey, Index No. II-CERCLA-02-2017-2008. To request a copy of the proposed settlement agreement, please contact the EPA employee identified below.

FOR FURTHER INFORMATION CONTACT: Deborah Schwenk, Assistant Regional Counsel, Office of Regional Counsel, U.S. Environmental Protection Agency, 290 Broadway, New York, NY 10007-1866. Email: schwenk.deborah@epa.gov. Telephone: 212-637-3149.

Dated: May 2, 2017.
Eric J. Wilson,
Acting Director, Emergency and Remedial Response Division, U.S. Environmental Protection Agency, Region 2.

[FR Doc. 2017-14344 Filed 7-6-17; 8:45 am]

BILLING CODE 6560-50-P